ENVIRONMENTAL PROTECTION AGENCY

[FRL-7994-2]

Underground Injection Control Program; Hazardous Waste Injection Restrictions; Petition for Exemption—Class I Hazardous Waste Injection; Lyondell Chemical Company

AGENCY: Environmental Protection Agency.

ACTION: Notice of Final Decision on No Migration Petition Reissuance.

SUMMARY: Notice is hereby given that an exemption to the land disposal restrictions under the 1984 Hazardous and Solid Waste Amendments to the Resource Conservation and Recovery Act has been granted to Lyondell Industries, Inc. (Lyondell) for two Class I injection wells located at Channelview, Texas. As required by 40 CFR Part 148, the company has adequately demonstrated to the satisfaction of the Environmental Protection Agency by the petition and supporting documentation that, to a reasonable degree of certainty, there will be no migration of hazardous constituents from the injection zone for as long as the waste remains hazardous. This final decision allows the continued underground injection by Lyondell, of the specific restricted hazardous wastes identified in the exemption, into Class I hazardous waste injection wells WDW-148 and WDW-162, until December 31, 2020, unless EPA moves to terminate the exemption under provisions of 40 CFR 148.24. Additional conditions included in this final decision may be reviewed by contacting the Region 6 Ground Water/UIC Section. As required by 40 CFR 148.22(b) and 124.10, a public notice was issued August 18, 2005. The public comment period closed on October 3, 2005. No comments were received. This decision constitutes final Agency action.

DATES: This action is effective as of October 28, 2005.

ADDRESSES: Copies of the petition and all pertinent information relating thereto are on file at the following location: Environmental Protection Agency, Region 6, Water Quality Protection Division, Source Water Protection Branch (6WQ-S), 1445 Ross Avenue, Dallas, Texas 75202-2733.

FOR FURTHER INFORMATION CONTACT: Philip Dellinger, Chief Ground Water/UIC Section, EPA—Region 6, telephone (214) 665-7165.

Larry Wright,
Acting Director, Water Quality Protection Division (6WQ).

[FR Doc. 05-22032 Filed 11-3-05; 8:45 am]

BILLING CODE 6560-50-P